DEPARTMENT OF TRANSPORTATION

Pipeline and Hazardous Materials Safety Administration

[Docket No. PHMSA-2016-0136]

Pipeline Safety: Meetings of the Gas Pipeline Advisory Committee and the Liquid Pipeline Advisory Committee

AGENCY: Pipeline and Hazardous Materials Safety Administration (PHMSA), DOT.

ACTION: Notice of advisory committee meetings.

SUMMARY: This notice announces both a public meeting of the Technical Pipeline Safety Standards Committee, also known as the Gas Pipeline Advisory Committee (GPAC), to discuss topics and provisions of the proposed rule titled “Safety of Gas Transmission and Gathering Pipelines,” and a joint meeting of the GPAC and the Technical Hazardous Liquid Pipeline Safety Standards Committee, also known as the Liquid Pipeline Advisory Committee (LPAC). The purpose of the joint meeting of the GPAC and LPAC is to discuss a variety of policy issues and topics relative to pipeline safety.

DATES: The GPAC and LPAC will meet in a joint session on December 13, 2017, from 8:30 a.m. to 5:00 p.m., and the GPAC only will meet on December 14, 2017, from 8:30 a.m. to 5:00 p.m. and on December 15, 2017, from 8:30 a.m. to 12:00 p.m. ET. Members of the public who wish to attend in person are asked to register no later than December 3, 2017. Individuals requiring accommodations, such as sign language interpretation or other ancillary aids, are asked to notify PHMSA by December 3, 2017. For additional information see the ADDRESSES section.

ADDRESSES: The meeting will be held at the Hilton Arlington, 950 North Stafford Street, Arlington, Virginia 22203. The agenda and any additional information for the meetings will be published on the following pipeline advisory committee meeting and registration page: https://primis.phmsa.dot.gov/meetings/MtgHome.mtg?mtg=127.

The meetings will not be webcast; however, presentations will be available on the meeting Web site and posted on the E-Gov Web site, https://www.regulations.gov/, under docket number PHMSA-2016-0136 within 30 days following the meeting.

Public Participation

These meetings will be open to the public. Members of the public who attend in person will also be provided an opportunity to make a statement during the meetings.

Written comments: Persons who wish to submit written comments on the meetings may submit them to the docket in the following ways:

E-Gov Web site: https://www.regulations.gov. This site allows the public to enter comments on any Federal Register notice issued by any agency.

Fax: 1-202-493-2251.

Mail: Docket Management Facility; U.S. Department of Transportation (DOT), 1200 New Jersey Avenue SE., West Building, Room W12-140, Washington, DC 20590-0001.

Hand Delivery: Room W12-140 on the ground level of the DOT West Building, 1200 New Jersey Avenue SE., Washington, DC, between 9:00 a.m. and 5:00 p.m., Monday through Friday, except on Federal holidays.

Instructions: Identify the docket number PHMSA-2016-0136 at the beginning of your comments. Note that all comments received will be posted without change to https://www.regulations.gov, including any personal information provided. Anyone can search the electronic form of all comments received into any of our dockets by the name of the individual submitting the comment (or signing the comment, if submitted on behalf of an association, business, labor union, etc.). Therefore, consider reviewing DOT's complete Privacy Act Statement in the Federal Register published on April 11, 2000; (65 FR 19477), or view the Privacy Notice at https://www.regulations.gov before submitting comments.

Docket: For docket access or to read background documents or comments, go to https://www.regulations.gov at any time or to Room W12-140 on the ground level of the DOT West Building, 1200 New Jersey Avenue SE., Washington, DC, between 9:00 a.m. and 5:00 p.m., Monday through Friday, except Federal holidays.

If you wish to receive confirmation of receipt of your written comments, please include a self-addressed, stamped postcard with the following statement: “Comments on PHMSA-2016-0136.” The docket clerk will date stamp the postcard prior to returning it to you via the U.S. mail.

Privacy Act Statement

In accordance with 5 U.S.C. 553(c), the DOT solicits comments from the public to better inform its rulemaking process. The DOT posts these comments, without edit, including any personal information the commenter provides, to www.regulations.gov as described in the system of records notice (DOT/ALL-14 FDMS), which can be reviewed at www.dot.gov/privacy.

Services for Individuals with Disabilities: The public meeting will be physically accessible to people with disabilities. Individuals requiring accommodations, such as sign language interpretation or other ancillary aids, are asked to notify Cheryl Whetsel at cheryl.whetsel@dot.gov.

FOR FURTHER INFORMATION CONTACT: For information about the meeting, contact Cheryl Whetsel by phone at 202-366-4431 or by email at cheryl.whetsel@dot.gov.

SUPPLEMENTARY INFORMATION:

I. Meeting Details and Agenda

The GPAC and LPAC will meet in a joint session to discuss a variety of topics to keep committee members up-to-date on the pipeline safety program and policy issues.

The GPAC will be considering the proposed rule titled “Safety of Gas Transmission and Gathering Pipelines,” which was published in the Federal Register on April 8, 2016; (81 FR 20722), and the associated regulatory analysis. Based on discussions at the previous GPAC meetings, the topics that will be discussed at this meeting are material documentation and the integrity verification process. If time permits, strengthened assessment requirements would also be discussed.

Prior to these meetings, PHMSA will finalize the agendas and will publish them on the PHMSA meeting page at https://primis.phmsa.dot.gov/meetings/MtgHome.mtg?mtg=127.

II. Committee Background

The GPAC and the LPAC are statutorily mandated advisory committees that advise PHMSA on proposed gas pipeline and hazardous liquid pipeline safety standards, respectively, and their associated risk assessments. The committees are established in accordance with the Federal Advisory Committee Act (5 U.S.C. App. 2, as amended) and 49 U.S.C. 60115. The committees consist of 15 members with membership evenly divided among Federal and State governments, the regulated industry, and the general public. The committees advise PHMSA on the technical feasibility, reasonableness, cost-effectiveness, and practicability of each proposed pipeline safety standard.

Issued in Washington, DC on November 2, 2017, under authority delegated in 49 CFR 1.97.
John A. Gale,
Director, Office of Standards and Rulemaking.

[FR Doc. 2017-24206 Filed 11-6-17; 8:45 am]

BILLING CODE 4910-60-P